DEPARTMENT OF ENERGY

Federal Energy Regulatory Commission

[Docket No. CP09-17-000]

Florida Gas Transmission Company, LLC; Notice of Availability of the Environmental Impact Statement for the Proposed Phase VIII Expansion Project

September 18, 2009.

The staff of the Federal Energy Regulatory Commission (Commission or FERC) has prepared a final environmental impact statement (EIS) for the construction and operation of natural gas pipeline facilities proposed by Florida Gas Transmission Company, LLC (FGT) in the above referenced docket. FGT's Phase VIII Expansion Project (Project) would be located in various counties in southern Alabama and throughout Florida.

The final EIS was prepared to satisfy the requirements of the National Environmental Policy Act of 1969 (NEPA). The FERC staff concludes that approval of the proposed project, with the appropriate mitigation measures as recommended, would have some adverse environmental impact. However, most of these impacts would be reduced to less-than significant levels with the implementation of the applicant's proposed mitigation measures and the additional measures we recommend in the EIS.

The U.S. Army Corps of Engineers (COE) and U.S. Department of Agriculture Forest Service (USFS) participated as cooperating agencies in the preparation of the EIS. Cooperating agencies have jurisdiction by law or special expertise with respect to resources potentially affected by the proposal and participate in the NEPA analysis. The Project would require permits from the COE pursuant to Section 404 of the Clean Water Act (33 United States Code [U.S.C.] 1344) and Section 10 of the Rivers and Harbors Act (33 USC 403). The COE would adopt the EIS per Title 40 of the Code of Federal Regulations, Part 1501.3 if, after an independent review of the document, it concludes that its comments and suggestions have been satisfied. The USFS manages all federal lands (the Apalachicola National Forest) that would be crossed by this Project. A special-use permit would be issued by the USFS for the existing right-of-way for two existing pipelines (a 30-inch and a 36-inch-diameter) and the proposed additional 36-inch-diameter pipeline. This additional pipeline would require an additional 40 feet of right-of-way adjacent to the existing right-of-way. By participating as a cooperating agency, the USFS has obtained the views of the public prior to reaching an easement decision.

The final EIS addresses the potential environmental effects of the construction and operation of the following facilities:

• Construction and operation of about 357.3 miles of looping ¹ various diameters of pipeline in Mobile, Baldwin, and Escambia Counties, Alabama and Escambia, Santa Rosa, Okaloosa, Walton, Washington, Jackson, Bay, Calhoun, Gadsden, Leon, Jefferson, Taylor, Lafayette, Suwannee, Gilchrist, Levy, Citrus, Hernando, Pasco, Hillsborough, and Miami-Dade Counties, Florida;

¹ A loop is a segment of pipeline that is usually installed adjacent to an existing pipeline and connected to it at both ends. The loop allows more gas to be moved through the system.

• Construction and operation of about 125.9 miles of 20, 24, and 30-inch-diameter pipelines in Lafayette, Madison, Manatee, DeSoto, Highlands, Okeechobee, Martin, and Suwannee Counties, Florida;

• Acquisition from Florida Power & Light Company of a 22.7-mile-long, 20-inch-diameter pipeline located in Martin County, Florida;

• Installation of a total of about 198,000 horsepower (hp) of compression at 8 existing compressor stations;

• Installation of one new 15,600 hp compressor station in Highlands County, Florida; and

• Construction and operation of three new meter and regulator (M&R) Stations in Suwannee, Manatee, and Martin Counties, Florida; upgrade two existing M&R Stations in Mobile County, Alabama and Martin County, Florida; and construct one new regulator station in Lafayette County, Florida.

The final EIS has been placed in the public files of the FERC and the COE and is available for public inspection at:

Federal Energy Regulatory Commission, Public Reference Room, 888 First Street, NE., Room 2A, Washington, DC 20426. (202) 502-8371.

U.S. Army Corps of Engineers, Jacksonville District, 701 San Marco Boulevard, Jacksonville, Florida 32207. 904-232-1472.

U.S. Forest Service, Apalachicola National Forest, 57 Taft Drive, Crawfordville, Florida 32327. 850-926-3561.

Copies of the final EIS have been mailed to Federal, State, and local government agencies; elected officials; Native American Tribes; local libraries and newspapers; intervenors in the FERC's proceeding; individuals who provided scoping comments; and individuals who requested to remain on the environmental mailing list. Hard copy versions of this EIS were mailed to those specifically requesting them, and all others received a CD-ROM. A limited number of hard copies and CD-ROMs are available in the Public Reference Room identified above.

Additional information about the Project is available from the Commission's Office of External Affairs, at 1-866-208-FERC (3372) or on the FERC Internet Web site (http://www.ferc.gov). Using the “eLibrary” link, select “General Search” from the eLibrary menu, enter the selected date range and “Docket Number,” excluding the last three digits in the Docket Number field (i.e., CP09-17), and follow the instructions. You may also search using the phrase “FGT Phase VIII Expansion Project” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. To register for this service, go to http://www.ferc.gov/esubscribenow.htm.

Information concerning the involvement of the COE is available from Beverlee Lawrence at (904) 232-2517, and information concerning the involvement of the Apalachicola National Forest is available from Harold Shenk at (850) 926-3561.

Kimberly D. Bose,
Secretary.

[FR Doc. E9-23283 Filed 9-25-09; 8:45 am]

BILLING CODE 6717-01-P